MARINE MAMMAL COMMISSION

Availability of Grant Funds for Fiscal Year 2008

AGENCY: Marine Mammal Commission.

ACTION: Notice.

Authority: Marine Mammal Protection Act of 1972 (1361 et seq.)

SUMMARY: The U.S. Marine Mammal Commission is seeking proposals for research and related activities that will further the conservation and management goals of the Marine Mammal Protection Act. Proposals should be tailored to address either of two focused research topics: (1) Conservation of Critically Endangered Marine Mammal Species or Populations and (2) Indirect Effects of Fisheries on Marine Mammals.

DATES: Proposals must be received by 15 July 2008, 5 p.m., EDT.

ADDRESSES: Proposals should be submitted electronically in MSWord, WordPerfect, or Adobe PDF format to Ms. Mina Innes, Research Program Officer, at the Marine Mammal Commission, e-mail address: minnes@mmc.gov.

FOR FURTHER INFORMATION CONTACT: Inquiries should be directed to Dr. Robert Gisiner, Scientific Program Director, by mail (4340 East-West Highway, Room 700, Bethesda, MD 20814), phone (301-504-0087), or e-mail (bgisiner@mmc.gov). Please also copy e-mail inquiries to Ms. Mina Innes (minnes@mmc.gov).

SUPPLEMENTARY INFORMATION: Title: Marine Mammal Commission FY2008 Focused Research Topics.

Purpose: The U.S. Marine Mammal Commission is seeking proposals for research and related activities that will further the conservation and management goals of the Marine Mammal Protection Act. Proposals should be tailored to address either of two focused research topics: (1) Conservation of Critically Endangered Marine Mammal Species or Populations and (2) Indirect Effects of Fisheries on Marine Mammals.

Grantees or contractors whose projects involve the taking of marine mammals will be expected to obtain all necessary permits and authorizations for their projects before engaging in such activities.

Information on the focused research topics, selection criteria, required formats for full proposals, the submission process, and the submission schedule is provided below.

Financial Information: A total of $450,000 has been allocated for this RFP. Allocation of the total amount between the two focused research topics will be determined by the nature and quality of proposals within each topic and the degree to which the selected proposals contribute to an integrated program of effort within each research topic as determined during the final review phase.

Duration of Effort: The Commission strongly encourages that proposals be limited to a single period of effort, usually one year. Multi-year proposals, not to exceed three years, may be considered, but only if a strong case can be made for the necessity of a prolonged effort.

Individual Award Amount: No upper or lower limit has been set for an individual proposal due to the wide range of potential levels of effort within each focused research topic. However, it is anticipated that few if any awards will exceed $50,000 to $100,000, and that most will range between $30,000 and $50,000, based on the Commission's desire to focus on initial phase scoping efforts and to be able to address a sufficient range of actions and approaches within each area. Proposers are encouraged to present a budget consistent with the type and level of effort proposed, rather than on a specific dollar target, since budget realism, aligned with anticipated scientific and conservation impact, constitutes the largest share of the review weighting process.

Indirect Costs: Proposers are encouraged to keep their overhead costs at or below 10 percent in keeping with the Marine Mammal Commission's stated policy on indirect costs. This policy is intended to maximize the impact on science and conservation from the limited resources available to the Commission for discretionary spending (also see http://www.mmc.gov/research/).

Focused Research Topics

1. Conservation of Critically Endangered Marine Mammal Species or Populations

The Commission is requesting proposals for research or other activities that will promote the conservation of critically endangered marine mammal species or populations, with a particular focus on those for which current research efforts are non-existent or underfunded. Such proposals could include the following:

• Collection and analysis of data on critically endangered marine mammals and/or the threats facing them, with the goal of informing conservation decisions;

• Development and implementation of strategies for prioritizing and commumcating critical conservation needs to the public and decision-makers;

• Initiation of conservation activities to address the principal threats facing critically endangered marine mammals.

The at-risk species or populations may occur in domestic, foreign, or international waters. The Commission is not likely to fund proposals to continue ongoing conservation programs but will consider proposals to provide seed money or start-up funds to initiate new efforts, with the goal of creating self-sustaining conservation efforts that do not duplicate pre-existing efforts. Priority will be given to proposals based on the degree of endangerment to the species or population, the usefulness and relevance of the research in addressing a threat and promoting conservation, and the extent to which other funding sources are or are not available. Proposals should reflect a thorough knowledge of ongoing research and conservation efforts and should clearly indicate both the importance of the proposed work and the limitations imposed by current funding levels or opportunities.

2. InDirect Effects of Fisheries on Marine Mammals

Commercial, recreational, and subsistence fisheries have the potential to affect marine mammals and other predators directly through bycatch and indirectly by altering the availability of prey resources (e.g., exploitative or interference competition). The Marine Mammal Protection Act establishes a comprehensive framework for managing bycatch of marine mammals, but the indirect effects of fishing are poorly understood and largely unmanaged. Despite growing emphasis on ecosystem-based fisheries management, much of the research effort to date has been limited to the indirect effects of fishing on non-target fish stocks with little attention paid to the effects on higher-trophic-level predators. Indirect effects of fisheries can be complex, and research programs to investigate those effects have been slow to develop.

The Commission is requesting proposals for studies that seek to describe quantitatively the indirect effects of fishing on marine mammals or to develop approaches for mitigating those effects. Proposals may include, but are not limited to, the following approaches:

• Comparative experiments between fished and unfished areas to assess the potential impact of fisheries on marine mammals;

• Development and performance testing of conceptual fishery management approaches that explicitly consider indirect effects of fishing on marine mammals;

• Ecosystem dynamics modeling studies that investigate the functional relationships between marine mammal predators, their prey, and fisheries in appropriate spatial/temporal context (i.e., including consideration of spatial and temporal overlap between predators, prey, and fisheries);

• Field validation of such modeling studies.

Methodological approaches and data requirements for such projects are described on pages 41-44 of Chapter 3, “Indirect Fisheries Interactions,” in J.E. Reynolds III et al. “Marine Mammal Research: Conservation Beyond Crisis” (The Johns Hopkins University Press, Baltimore, MD). Proposers may find this reference helpful in organizing their proposed efforts, although adherence to the referenced guidance is not required. Proposals will be considered both for small stocks and fisheries as well as for larger marine mammal populations or large-scale fisheries.

Proposals on other aspects of indirect fishery effects on marine mammals will be considered, but priority will be given to proposals that address critical gaps in current understanding of indirect fishery effects. In all cases, proposals should indicate a thorough knowledge of relevant topics and should describe explicitly how the proposed work will build upon, but not duplicate, previous efforts. The Commission will consider proposals for workshops or reviews of historical data as well as original research projects.

Selection criteria: Proposals will be evaluated using the normal consultative process of the Marine Mammal Commission with its Committee of Scientific Advisors on Marine Mammals and the Commission staff. The following factors will be considered.

• Relevance to the focused research topic as described in this statement and to the overall mission of the Marine Mammal Commission as described on the Commission's Web site (http://www.mmc.gov/aboutmmc/) (40 points).

• Scientific and conservation merit of the proposed approach and anticipated end products (30 points).

• Qualifications of the proposal team (15 points).

• Realism of the proposed budget (15 points).

Commission staff will compile reviewer recommendations and forward the ranked recommendations to the Commissioners for final review. The Commissioners will make the final funding determination based on their assessment of the combination of projects that will most effectively promote the conservation and management goals of the Marine Mammal Protection Act within the funds allocated for this funding opportunity.

Proposal Format

The proposal body must not exceed eight pages (single-sided, or four pages double-sided) using 12 point font, exclusive of cover page, budget page(s), curriculum vitae, and supporting materials.

• Cover Page: The cover page shall include the following information, in any format:

○ Title: The full title of the proposal. A shorter, running title is optional.

○ Research Topic: List the RFP topic to which the proposal is addressed (1) Critically Endangered Species or (2) Indirect Effects of Fisheries. Listing of topic subheadings (items indicated by bullets under each topic) is optional.

○ Keywords (optional): a list of three to six keywords, indicating species, regions, research methods, or disciplinary areas of effort.

○ Principal Investigator: Please list only one (corresponding) principal investigator even if your proposal team consists of two or more co-equal investigators and institutions (also see instructions for Curricula Vitae, below).

○ PI Contact Information: Address, phone, and e-mail for the principal investigator.

○ Financial Point of Contact: The individual (with or without institutional affiliation, as appropriate) who will be responsible for contractual and fiscal matters. This may or may not be the same individual and institution listed as principal investigator.

○ Financial Point of Contact Information: address, phone, and e-mail for the financial point of contact.

• Body of Proposal

○ Abstract (optional): Provide an abstract of the proposal summarizing the problem or question to be addressed, the methods to be used to address the problem or question, possible outcomes of the work, and the utility of the research for advancing science and management related to marine mammals. Please limit the abstract to approximately 200 words.

○ Introduction, Background, or Problem Statement: Provide a review of past related effort by the research team or others. Indicate knowledge gaps, shortfalls of prior efforts, or challenges to further progress and describe how the proposed effort will address these issues.

○ Goals and Objectives: Provide statements of both the general or broad goal of the proposed research and the specific objectives that will be addressed within the scope of this proposal to make progress toward the broader, general goal.

○ Methods: Provide a detailed description of the methods of the investigation so that the reviewer can understand how you will address each of the specific objectives. If you are not conducting original research but are developing a workshop, review panel or other activity, describe the nature of the activity, the planned agenda or working format, likely attendees/participants, and

○ Tentative dates and location of the planned activity.

○ Anticipated Outcomes: Describe the short-term outcomes and those anticipated to occur within the scope of effort and time span of the proposed project (e.g., completion of a workshop report, one or more peer-reviewed journal articles, an equipment prototype, and report).

○ Research and Management Utility (Long-Term Outcome): Describe the anticipated long-term utility of the project and its implications for future research, management, or conservation activities.

• Budget and Time Line: Although there is no specified format for the budget, this section should provide sufficient detail to inform the reviewer of expenses or costs by general category (salary, equipment, supplies, travel, publication, overhead, miscellaneous) and by sub-tasks within the proposed effort, as appropriate. Include information on other sources of funding for the project, if applicable. For multi-year or multi-stage projects, include a time table for completion of each phase as a means of gauging progress toward completion of the full proposed effort.

• Curricula Vitae, Research Team Qualifications: Provide a curriculum vitae or short biography of no more than two pages for all key members of the proposal team (those individuals whose unique background and experience are essential to completion of the project), including their experience or expertise related to the subject proposal. Although there can only be one principal investigator (see Title Page guidance), multiple co-investigators can be designated in this portion of the proposal, if desired.

• Supporting Materials: Supporting materials such as recent publications, short descriptions of relevant work in progress or recently completed, organization charts or time lines will be accepted, but should be limited to information absolutely essential to understanding the significance, approach and context of the proposed work. The presence or absence of supporting materials will not be a consideration in proposal evaluations. It is highly recommended that supporting materials be limited to fewer than 20 to 30 pages or 5 Mb; the more material provided, the less likely it is to be used by the reviewers in developing their evaluations.

Submission process: Proposals should be submitted electronically in MSWord, WordPerfect, or Adobe PDF format to Ms. Mina Innes, Research Program Officer, at the Marine Mammal Commission, e-mail address minnes@mmc.gov.

Timing of Submission and Review Process

15 July 2008; 5 p.m. EDT Full proposals due to the Marine Mammal Commission.

11 August 2008; 5 p.m. EDT Successful applicants informed of final Decisions.

Proposals received after the due date and time listed above will not, under any circumstances, be forwarded for review.

Inquiries: Inquiries should be directed to Dr. Robert Gisiner, Scientific Program Director, by mail (4340 East-West Highway, Room 700, Bethesda, MD 20814), phone (301-504-0087) or e-mail (bgisiner@minc.gov). Please also copy e-mail inquiries to Ms. Mina Innes (minnes@mmc.gov).

Dated: May 29, 2008.
Timothy J. Ragen,
Executive Director.

[FR Doc. E8-12459 Filed 6-4-08; 8:45 am]

BILLING CODE 6820-31-M